DEPARTMENT OF COMMERCE

International Trade Administration

[C-122-858]

Certain Softwood Lumber Products From Canada: Notice of Amended Final Results of Countervailing Duty Administrative Review; 2020

AGENCY: Enforcement and Compliance, International Trade Administration, Department of Commerce.

SUMMARY: The U.S. Department of Commerce (Commerce) is amending its notice of final results for the 2020 administrative review of the countervailing duty (CVD) order on certain softwood lumber products (softwood lumber) from Canada.

DATES: Applicable December 22, 2022.

FOR FURTHER INFORMATION CONTACT: John Hoffner, AD/CVD Operations, Office III, Enforcement and Compliance, International Trade Administration, U.S. Department of Commerce, 1401 Constitution Avenue NW, Washington, DC 20230; telephone: (202) 482-3315.

SUPPLEMENTARY INFORMATION:

Background

On March 4, 2021, Commerce published its Initiation Notice for the administrative review of the CVD order on softwood lumber from Canada covering the period January 1, 2020, through December 31, 2020.¹ In the Initiation Notice, Commerce inadvertently omitted the following companies, for which we had received timely requests for an administrative review: Brink Forest Products Ltd.; Deep Cove Forest Products, Inc.; and Vanderhoof Specialty Wood Products Ltd.² Additionally, in the Final Results of the CVD administrative review covering the 2020 period of review (POR), Commerce omitted those same companies from Appendix II as being among the firms subject to the review that received the subsidy rate applicable to companies not selected for individual examination.³

¹ See Initiation of Antidumping and Countervailing Duty Administrative Reviews, 86 FR 12599 (March 4, 2021) (Initiation Notice).

² Id., 86 FR at 12609; see also Brink Forest Products Ltd. and Vanderhoof Specialty Wood Products Ltd.'s Letter, “Certain Softwood Lumber Products from Canada Request for Administrative Review,” dated January 15, 2021; Central Forest Products, Inc.'s Letter, “Softwood Lumber from Canada; Request for Administrative Review,” dated February 1, 2022.

³ See Certain Softwood Lumber Products from Canada: Final Results and Final Rescission, in Part, of the Countervailing Duty Administrative Review, 2020, 87 FR 48455, 48458-59 (August 9, 2022) (Final Results).

With the issuance of this amended notice, we confirm that Brink Forest Products Ltd. and Vanderhoof Specialty Wood Products Ltd. are included among the firms subject to the CVD administrative review covering the 2020 period of review and are among the non-selected companies subject to a subsidy rate of 3.83 percent, effective August 9, 2022.⁴ While the company Deep Cove Forest Products, Inc. was inadvertently omitted from the Initiation Notice, the company did not have entries during the POR according to the U.S. Customs and Border Protection (CBP) entry data on the record.⁵ As a result, Deep Cove Forest Products, Inc. will not be subject to the assessment and cash deposit rates covering the 2020 POR.

⁴ Id., 87 FR at 48456.

⁵ See Memoranda, “Certain Softwood Lumber Products from Canada: Third Countervailing Duty Administrative Review—Release of U.S. Customs and Border Protection Query,” dated March 19, 2021; and “Certain Softwood Lumber Products from Canada: Third Countervailing Duty Administrative Review—Release of Results of Second Query of U.S. Customs and Border Protection Data,” dated January 5, 2022.

Assessment Rates

Pursuant to section 751(a)(2)(C) of the Tariff Act of 1930, as amended (the Act) and 19 CFR 351.212(b)(2), Commerce will determine, and CBP shall assess, CVDs on all appropriate entries of subject merchandise covered by this review. However, currently we have instructed CBP to suspend all entries subject to this review, pursuant to a suspension of liquidation request filed in accordance with 19 CFR 356.8 and 19 U.S.C. 516A(g)(5)(C).⁶ We also intend to issue suspension instructions for Brink Forest Products Ltd. and Vanderhoof Specialty Wood Products Ltd. consistent with that request and in accordance with 19 CFR 356.8 and 19 U.S.C. 516A(g)(5)(C).

⁶ See Committee Overseeing Action for Lumber International Trade Investigations or Negotiations (aka, COALITION)'s Letter, “Certain Softwood Lumber Products from Canada: USMCA Secretariat File No. USA-CDA-2022-10.12-03: Panel Review—Request for Continued Suspension of Liquidation,” dated September 16, 2022.

Cash Deposit Requirements

In accordance with section 751(a)(2)(C) of the Act, Commerce intends to instruct CBP to collect cash deposits of estimated CVDs in the amounts shown for the companies subject to this review, effective August 9, 2022, the date of publication of the Final Results in the Federal Register, for the two companies previously omitted. Therefore, Commerce will instruct CBP to collect cash deposits for Brink Forest Products Ltd. and Vanderhoof Specialty Wood Products Ltd. as included among the firms subject to the CVD administrative review covering the 2020 POR and as among the non-selected companies subject to a subsidy rate of 3.83 percent. These cash deposits, when imposed, shall remain in effect until further notice.

Notification to Interested Parties

This notice is issued and published in accordance with sections 751(a)(1) and 777(i) of the Act.

Dated: December 16, 2022.
Ryan Majerus,
Deputy Assistant Secretary for Policy and Negotiations.

[FR Doc. 2022-27844 Filed 12-21-22; 8:45 am]

BILLING CODE 3510-DS-P